DEPARTMENT OF TRANSPORTATION

Federal Transit Administration

Preparation of an Environmental Impact Statement for the Redlands; Passenger Rail Project in the Cities of San Bernardino and Redlands, CA

AGENCY: Federal Transit Administration (FTA), DOT.

ACTION: Notice of Intent to prepare an Environmental Impact Statement/Environmental Impact Report (EIS/EIR).

SUMMARY: FTA and San Bernardino Associated Governments (SANBAG) intend to prepare an EIS/EIR for the Redlands Passenger Rail Project (RPRP or Project). Early in 2012, FTA and SANBAG began the preparation of an Environmental Assessment (EA)/EIR for the RPRP and conducted two scoping meetings; one on April 24 in the City of Redlands and the other on May 2 in the City of San Bernardino. Based on the input received from the community, including written comment letters, and preliminary findings from ongoing technical studies, FTA determined that an EIS is required. The EIS/EIR will be prepared in accordance with regulations implementing the National Environmental Policy Act (NEPA: 42 U.S.C. 4321 et seq.) of 1969 and the regulations implementing NEPA set forth in 40 CFR Parts 1500-1508 and 23 CFR Part 771, as well as provisions of the Safe, Accountable, Flexible, Efficient Transportation Equity Act: A Legacy for Users (SAFETEA-LU). The purpose of this Notice is to:

• Advise the public that FTA is the lead Federal agency;

• Provide information about the proposed project, purpose and need for the project, and alternatives to be considered; and

• Invite public and agency participation in the EIS process.

The EIS/EIR will examine alternatives to provide a cost-effective, alternative travel option for communities located along the Redlands Corridor in a way that improves transit mobility, travel times, and corridor safety.

DATES: The date, time, and location for the public scoping meetings are as follows:

August 14, 2012

5:30 p.m. to 7:30 p.m.

ESRI Café, 380 New York Street, Redlands, CA 92373.

August 15, 2012

5:30 p.m. to 7:30 p.m.

San Bernardino Hilton, 1755 South Waterman Avenue, San Bernardino, CA 92408.

These locations are accessible by persons with disabilities. If special translation or signing services or other special accommodations are needed, please contact Robert Chevez at Westbound Communications (909-384-8188) at least 48 hours before the meeting.

ADDRESSES: Written comments may be submitted to Mitchell A. Alderman, P.E., Director of Transit & Rail Programs, SANBAG, 1170 W. 3rd St, 2nd Floor, San Bernardino, CA 92410, or emailed to RPRP_Public_Comments@sanbag.ca.gov. Written comments may also be submitted to Mr. Hymie Luden, City and Regional Planner, FTA, Region 9, 201 Mission Street, Suite 1650 San Francisco, CA 94105.

In accordance with Section 6002 of SAFETEA-LU, FTA and SANBAG invite comment on the scope of the EIS/EIR, specifically on the Project's purpose and need, the alternatives to be evaluated that may address the purpose and need, and the potential impacts of the alternatives considered. Comments on scope of the EIS/EIR must be received no later than 5:00 p.m. Pacific Standard Time on August 31, 2012. A scoping information packet is available on the Web site at: http://sanbag.ca.gov/projects/redlands-transit.html or by calling Jane Dreher, SANBAG's Public Information Officer (909-884-8276). Copies will also be available at the scoping meetings.

SUPPLEMENTARY INFORMATION: Purpose and Need for the Project: The overall purpose of the Project is to provide a cost-effective, travel alternative for communities located along the Redlands Corridor that would improve transit mobility, travel times, and corridor safety while minimizing adverse environmental impacts. The RPRP would provide travelers and commuters with a new mobility option that would achieve more-efficient travel times than automobiles or other transit alternatives within an existing corridor. The Project is needed because population growth has increased roadway congestion, which has increased commute travel times for work and recreational purposes, increased the number of hours of lost productivity, increased fuel consumption, contributed to air pollution, interfered with emergency response vehicles, and caused spillover effects onto secondary and alternative routes. SANBAG also needs to maintain existing freight service along the corridor per its purchase agreement with the Burlington Northern Santa Fe (BNSF) Railroad.

Project Location and Environmental Setting: The RPRP would introduce passenger rail service along an existing railroad right-of-way (ROW) from the City of San Bernardino on the west to the City of Redlands on the east. This existing ROW is commonly referred to as the Redlands Corridor, an approximately 9-mile rail spur segment that extends east from E Street in the City of San Bernardino. Passenger rail service would serve passengers from five platforms located at E Street, Tippecanoe Avenue, New York Street, Orange Street, and University Street. SANBAG proposes the construction of a single track within a ROW 50 feet wide, with a passing siding one-mile long located near the midpoint of the alignment. Project components would include track improvements; boarding platforms; passenger amenities such as ticket vending machines, shade canopies with seating; pedestrian access to the public ROW, lighting, parking areas; grade crossing improvements; utility and traffic improvements; and construction of a train layover facility. The proposed Project would not include the purchase of additional vehicles. Passenger rail operations would start in 2018.

Possible Alternatives: The EIS/EIR will consider alternatives to the proposed Project consistent with the requirements of NEPA. SANBAG anticipates that this may include consideration of Alternative 1—No Build, Alternative 2—Preferred Project, Alternative 3—Reduced Project Footprint, Alternative 4—Light Rail Transit, Alternative 5—Bus Rapid Transit, Design Option 1—Train Layover Facility (Waterman Avenue), and Design Option 2—Use of Existing Train Layover Facilities. Other alternatives and/or design options may also be considered. These alternatives are described further as follows:

• Alternative 1—No Build: Track improvements and facilities would not be constructed to facilitate passenger rail service between San Bernardino and the University of Redlands. Under this alternative, track maintenance and rehabilitation of existing bridge structures would be required throughout the western 3.5 miles of the rail corridor to facilitate continued freight service.

• Alternative 2—Preferred Project: SANBAG would construct track and grade crossing improvements, bridge replacements, rail platform, and new train layover facilities to facilitate passenger rail service along the 9-mile corridor.

• Alternative 3—Reduced Project Footprint: Track improvements and facilities would be constructed as described for the Preferred Project but they would be constructed within a narrower permanent easement, where feasible, to minimize direct impacts on sensitive biological, cultural, and public park resources. Alternative bridge structures would be constructed at Warm Creek and the Santa Ana River.

• Alternative 4—Light Rail Transit: This alternative would involve development of the rail corridor with new tracking and an overhead catenary system to power the light rail transit (LRT) vehicles.

• Alternative 5—Bus Rapid Transit: Under this alternative, a new bus rapid transit (BRT) guideway would be constructed adjacent to the existing freight track, which will be used solely by BRT vehicles. Signalization would be required at all existing grade crossings as opposed to the use of crossing gates.

• Design Option 1—Train Layover Facility (Waterman Avenue): Track improvements and facilities would be constructed as described for the Preferred Project but the Train Layover Facility would be constructed at a different location, west of the Santa Ana River, east of Waterman Avenue, and immediately north of the rail corridor.

• Design Option 2—Use of Existing Train Layover Facilities: Track improvements and facilities would be constructed as described for the Preferred Project. However, instead of constructing new layover facilities as described for the Preferred Project and Alternative 3, the project would not construct layover facilities but use the existing Metrolink layover facilities located west of E Street.

Areas of investigation include, but are not limited to, land use, land acquisitions, displacements, and relocations, community and neighborhood character, transportation, visual quality and aesthetics, air quality, greenhouse gases, and global climate change, noise and vibration, biological and wetland resources (including threatened and endangered species), agricultural resources, floodplains and hydrology, geology, soils, and seismicity, hazardous waste and materials, water quality, energy use, utilities, cultural and historic resources, parklands, community services and facilities, safety and security, socioeconomics, environmental justice, and cumulative effects. Measures to avoid, minimize, or mitigate any significant adverse impacts will be identified.

Probable Effects: The EIS/EIR will consider in detail the potential environmental effects of the alternatives under consideration based on the current scoping efforts. The Draft EIS/EIR and Final EIS/EIR will summarize the results of coordination with federal, state, and local agencies and the public at large; present the appropriate federal, state, and local regulations and policies; inventory and compile previous studies pertinent to the project; describe the methodology used to assess impacts; identify and describe the affected environment; analyze and document the construction related (short-term) and operational (long-term) environmental consequences (direct, indirect, and cumulative) of the project alternatives; and identify opportunities and measures that mitigate any identified adverse impacts. The specific scope of analysis and study areas used to undertake the analysis in the EIS/EIR will be established during the public and agency scoping process.

FTA Procedures: The EIS/EIR is being prepared in accordance with the NEPA of 1969, as amended, and implemented by the Council on Environmental Quality (CEQ) regulations (40 CFR parts 1500-1508), FHWA environmental impact regulations (49 CFR part 622, 23 CFR part 771, and 23 CFR part 774), and Section 6002 of the SAFETEA-LU of 2005. The EIS/EIR will also comply with requirements of Section 106 of the National Historic Preservation Act of 1966, as amended, Section 4(f) of the U.S. Department of Transportation Act of 1966, the 1990 Clean Air Act Amendments, Executive Order 12898 (Federal Actions to Address Environmental Justice in Minority and Low-Income Populations), Executive Order 11990 (Protection of Wetlands), and other applicable federal laws, rules, and regulations. The EIS/EIR will also satisfy environmental review requirements of the California Environmental Quality Act (CEQA). Regulations implementing NEPA, as well as provisions of SAFETEA-LU, call for public involvement in the EIS process. Section 6002 of SAFETEA-LU requires that FTA and SANBAG do the following: (1) Extend an invitation to other Federal and non-Federal agencies and Indian tribes that may have an interest in the proposed project to become “participating agencies,” (2) provide an opportunity for involvement by participating agencies and the public in helping to define the purpose and need for a proposed project, as well as the range of alternatives for consideration in the impact statement, and (3) establish a plan for coordinating public and agency participation and comments on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed Project that does not receive an invitation to become a participating agency should notify at the earliest opportunity the Project Managers identified above under ADDRESSES.

A comprehensive public involvement program has been developed and a public and agency involvement Coordination Plan will be created. The program includes, among other things, a Project Web site (http://sanbag.ca.gov/projects/redlands-transit.html); outreach to local and county officials and community and civic groups; a public scoping process to define the issues of concern among all parties interested in the Project; establishment of a community advisory committee and organizing periodic meetings with that committee; a public hearing on release of the Draft EIS/EIR; and development and distribution of Project newsletters.

FOR FURTHER INFORMATION CONTACT: Mr. Mitchell A. Alderman, P.E., Director of Transit & Rail Programs, SANBAG, 1170 W. 3rd St, 2nd Floor, San Bernardino, CA 92410, (909) 884-8276. You may also contact Mr. Hymie Luden, City and Regional Planner, FTA, Region 9, 201 Mission Street, Suite 1650 San Francisco, CA 94105, (415) 744-2732.

Issued On: July 25, 2012.
Edward Carranza, Jr.,
Deputy Regional Administrator, Region 9.

[FR Doc. 2012-18636 Filed 7-30-12; 8:45 am]

BILLING CODE P